DEPARTMENT OF THE INTERIOR

National Park Service

National Register of Historic Places; Notification of Pending Nominations and Related Actions

Nominations for the following properties being considered for listing or related actions in the National Register were received by the National Park Service before December 9, 2006. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 10, 2007.

John W. Roberts,
Acting Chief, National Register/National Historic Landmarks Program.

California

Mariposa County

Wawona Covered Bridge, Pioneer Yosemite History Center, Wawona, 06001261

Orange County

Williams, Roger Y., House, 29991 Camino Capistrano, San Juan Capistrano, 06001237

Santa Clara County

Saratoga Village Library, 14410 Oak St., Saratoga, 06001238

Colorado

Summit County

Montezuma Schoolhouse, (Rural School Buildings in Colorado MPS), 5375 Webster St., Montezuma, 06001239

District of Columbia

District of Columbia

Glover—Archbold Park, Reservation 351 and 450 (Foundry Branch Valley), Washington, 06001260

Kansas

Rawlins County

Shirley Opera House, (Theaters and Opera Houses of Kansas MPS), 503 Main St., Atwood, 06001241

Riley County

Downtown Manhattan Historic District, Generally including the blks bet. Humboldt and Pierre Sts. from 3rd to 5th Sts., Manhattan, 06001240

Houston, Samuel D., House, 3524 Anderson Ave., Manhattan, 06001246

Russell County

Kennedy Hotel, 117 Third St., Paradise, 06001244

Paradise Water Tower, E of int. of Waldo and Main Sts., Paradise, 06001242

Sedgwick County

Mullen Court Apartments,

1140-1150 N. Topeka Ave., Wichita, 06001243

Wabaunsee County

Stuewe House, 617 Nebraska, Alma, 06001245

Mississippi

Lauderdale County

Meridian Downtown Historic District, Roughly bounded by Twenty-Sixth Ave., Eighteenth Ave., Sixth St., and Front St., Meridian, 06001249

Montana

Fergus County

Lewiston Satellite Airfield Historic District (Boundary Increase II), MT 87, Lewiston, 06001247

Lewis and Clark County

Fisk, Robert and Elizabeth, House, 319 N. Rodney St., Helena, 06001248

New Mexico

Colfax County

El Raton Theater, (Movie Theaters in New Mexico MPS), 115 N. Second St., Raton, 06001250

Curry County

Lyceum Theater, (Movie Theaters in New Mexico MPS), 409 Main St., Clovis, 06001253

State Theater, (Movie Theaters in New Mexico MPS), 504 Main St., Clovis, 06001255

Lea County

Lea Theater, (Movie Theaters in New Mexico MPS), 106 E. Central St., Lovington, 06001251

Quay County

Glenrio Historic District, (Route 66 through New Mexico MPS), TX loop 504/NM 1578, Glenrio, 06001259

Odeon Theater, (Movie Theaters in New Mexico MPS), 123 South Second St., Tucumcari, 06001254

Union County

Luna Theater, (Movie Theaters in Washington State MPS), 2-6 Main St., Clayton, 06001252

Pennsylvania

Dauphin County

Calver Island, Address Restricted, Swatara Township, 06001256

Rhode Island

Providence County

Jules Desurmont Worsted Company Mill, 84 Fairmount St., Woonsocket, 06001257

Texas

Deaf Smith County

Clenrio Historic District, (Route 66 in Texas MPS), TX loop 504/NM 1578, Glenrio, 06001258

[FR Doc. E6-22021 Filed 12-22-06; 8:45 am]

BILLING CODE 4312-51-P